DEPARTMENT OF THE INTERIOR

National Park Service

Previously Announced Roads and Trails Management Plan/Environmental Impact Statement To Be Combined With Ongoing Effort on General Management Plan/Environmental Impact Statement for Big South Fork National River and Recreation Area, Kentucky and Tennessee

SUMMARY: Public comment received on the Draft General Management Plan/Environmental Impact Statement (GMP/EIS) indicated additional detail was needed to adequately understand National Park Service management proposals for the national area. In order to include more detail, it is necessary to consider management options for the national area's roads and trails.

Anticipating a separate, concurrent effort to prepare a Roads and Trails Management Plan (RTMP)/EIS for the national area, a Notice of Intent was previously published in the Federal Register. Since planning for roads and trails will now be incorporated into the GMP/EIS, a separate RTMP/EIS will not be prepared. The GMP/EIS will now cover management actions concerning roads and trails. Because substantial revision of parts of the previous draft is anticipated, the National Park Service will be prepared and distributing a Supplemental Draft GMP/EIS. A Notice of Availability of the Supplemental Draft GMP/EIS will be published at the appropriate time.

DATES: The planning process is expected to extend through September 2001, with the primary proposal formulation stage expected to end by May 2001.

FOR FURTHER INFORMATION CONTACT: Superintendent, Big South Fork National River and Recreation Area, 4564 Leatherwood Ford Road, Oneida, Tennessee, 37841. Telephone: 423-569-9778.

SUPPLEMENTARY INFORMATION: Our practice is to make comments, including names and home addresses of respondents, available for public review during business hours. If you wish for us to withhold your name and/or address, you must state this prominently at the beginning of your comment. However, we will not consider anonymous comments. We will make all submissions from organizations or businesses, and from individuals identifying themselves as representatives or officials or organizations or businesses, available for public inspection in their entirety.

Comments on roads and trails that were received during the scoping period for the RTMP/EIS will continue to be considered, and comments need not be resubmitted. Any new comments on the combined planning effort are welcome and will be accepted anytime during the planning process. Comments should be submitted to the address below.

Dated: January 25, 2001.
W. Thomas Brown,
Acting Regional Director, Southeast Region.

[FR Doc. 01-4013 Filed 2-15-01; 8:45 am]

BILLING CODE 4310-70-M